DEPARTMENT OF JUSTICE

[OMB Number 1103-0111]

Agency Information Collection Activities; Proposed eCollection eComments Requested; Quality of Service Survey

AGENCY: Community Relations Service (CRS), Department of Justice.

ACTION: 30-day notice.

SUMMARY: The Department of Justice (DOJ), Community Relations Service (CRS) will be submitting the following information collection request to the Office of Management and Budget (OMB) for review and approval in accordance with the Paperwork Reduction Act of 1995. The proposed information collection is published to obtain comments from the public and affected agencies. This proposed information collection was previously published in the Federal Register at 81 FR 39278, on June 16, 2016, allowing for a 60 day comment period.

DATES: Comments are encouraged and will be accepted for an additional 30 days until September 22, 2016.

FOR FURTHER INFORMATION CONTACT: If you have additional comments especially on the estimated public burden or associated response time, suggestions, or need a copy of the proposed information collection instrument with instructions or additional information, please contact Gilbert Moore, Deputy Director, Community Relations Service, 600 E Street NW., Suite 6000, Washington, DC 20530. Office Phone: 202-305-2925. Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: CRS “Quality of Service” Survey.

3. The agency form number: CRS 1103-0111.

4. Affected public who will be asked or required to respond, as well as a brief abstract:

Primary: State and local elected officials, law enforcement executives, Education Administrators, community leaders, and others who receive CRS services.

Abstract: The CRS Survey will be provided to those who engage in CRS services as our work concludes in a case. The result of the Survey, in aggregate, will be used to ensure that CRS is providing quality services, and to identify needed modifications and enhancements.

5. An estimate of the total number of respondents and the amount of time estimated for an average respondent to respond: The Survey will be distributed to key participants in CRS cases at the conclusion of each case. This is estimated to be five people per case. CRS conducts approximately 500 cases per year. As such, CRS anticipates distributing approximately 2,500 surveys per year. Since the Survey is voluntary, CRS anticipates a response rate of approximately ten percent, which would result in 250 responses annually. It is estimated that completing the Survey will take less than three minutes per respondent. The estimated total public burden hours associated with this collection is 12.5 hours per fiscal year.

6. An estimate of the total public burden (in hours) associated with the collection: 2,282.6 annual burden hours. There are an estimated 125 annual total CRS burden hours associated with this collection.

If additional information is required contact: Jerri Murray, Department Clearance Officer, United States Department of Justice, Justice Management Division, Policy and Planning Staff, Two Constitution Square, 145 N Street NE., 3E.405B, Washington, DC 20530.

Dated: August 18, 2016.
Jerri Murray,
Department Clearance Officer for PRA, U.S. Department of Justice.

[FR Doc. 2016-20108 Filed 8-22-16; 8:45 am]

BILLING CODE 4410-17-P